DEPARTMENT OF DEFENSE

Department of the Navy

Department of the Navy Science and Technology Board; Notice of Federal Advisory Committee Meeting

AGENCY: Department of the Navy (DoN), Department of Defense (DoD).

ACTION: Notice of Federal Advisory Committee meeting.

SUMMARY: The DoD is publishing this notice to announce that the following Federal Advisory Committee meeting of the Department of the Navy Science and Technology Board (DON S&T Board) will take place.

DATES: A closed meeting will be held on April 30 to May 1, 2024 from 8:00 a.m. to 5:00 p.m. Eastern Standard Time (EST). A closed meeting is required because the discussions will involve classified national security matters and technical processes.

ADDRESSES: The closed meeting will be held at the Pentagon, Washington, DC.

FOR FURTHER INFORMATION CONTACT: Ms. Maria Proestou, Designated Federal Officer (DFO), Office of the Assistant Secretary of the Navy (Research, Development & Acquisition), Pentagon, Washington, DC 20350-1000, 703-692-8278, donstb.fct@navy.mil.

SUPPLEMENTARY INFORMATION: This meeting is being held under the provisions of chapter 10 of title 5 U.S.C. (commonly known as the Federal Advisory Committee Act (FACA), the Government in the Sunshine Act of 1976 (5 U.S.C. 552b, as amended), title 41 Code of Federal Regulations (CFR) 102-3.140 and 102-3.150 and covered by 5 U.S.C. 552b(c) (l).

Purpose of the Meeting: The purpose of the meeting will be to brief Navy and Marine Corps operational leadership on opportunities to expand warfighting advantage through technologies that have the potential to disrupt the nature of warfighting. The Board members will conduct classified interviews with subject matter experts to support the Board's tasking. Leveraging information gathered, the Board will assess work in progress to develop practical recommendations in support of SECNAV tasking.

Agenda: On April 30 to May 1, 2024, the DON S&T Board will meet at the Pentagon to vote on recommendations for the Secretary of the Navy and have out-brief discussions with Department of the Navy and Marine Corps leadership. There will be classified discussions on strategy and relevant topics previously tasked by the Secretary of the Navy.

Availability of Materials for the Meeting: A copy of the agenda or any updates to the agenda for the meeting from April 30 to May 1, 2024, as well as supporting documents, can be found on the website: https://www.facadatabase.gov.

Meeting Accessibility: Pursuant to section 552b(c) (l) of 5 U.S.C., this meeting will be closed to the public. If there are any questions or concerns, please send them to donstb.fct@navy.mil no later than, April 23, 2024.

Written Statements: Pursuant to 41 CFR 102-3.105 and 102-3.140, and section 1009(a)(3) of title 5 U.S.C., written statements to the committee may be submitted at any time or in response to a stated planned meeting agenda by email to donstb.fct@navy.mil with the subject line, “Comments for DON STB Meeting.”

Dated: April 8, 2024.
J.E. Koningisor,
Lieutenant Commander, Judge Advocate General's Corps, U.S. Navy, Federal Register Liaison Officer.

[FR Doc. 2024-07653 Filed 4-10-24; 8:45 am]

BILLING CODE 3810-FF-P